DEPARTMENT OF TRANSPORTATION

Federal Aviation Administration

14 CFR Part 39

[Docket No. FAA-2012-1034; Directorate Identifier 2011-NM-051-AD; Amendment 39-17383; AD 2013-05-11]

RIN 2120-AA64

Airworthiness Directives; Airbus Airplanes

AGENCY: Federal Aviation Administration (FAA), Department of Transportation (DOT).

ACTION: Final rule.

SUMMARY: We are superseding an existing airworthiness directive (AD) for certain Airbus Model A318, A319, A320, and A321 series airplanes. That AD currently requires one-time and repetitive inspections of specific areas and, when necessary, corrective actions for those rudders where production rework has been identified. This new AD adds airplanes with certain rudders to the AD applicability; changes an inspection type for certain reinforced rudder areas; requires pre-inspections and repairs if needed; and requires permanent restoration of vacuum loss holes. This AD also requires additional inspections for certain rudders and repair if needed, and requires replacement of certain rudders with new rudders. This AD was prompted by reports of surface defects on rudders that were the result of debonding between the skin and honeycomb core. We are issuing this AD to detect and correct extended de-bonding, which might degrade the structural integrity of the rudder. The loss of the rudder leads to degradation of the handling qualities and reduces the controllability of the airplane.

DATES: This AD becomes effective July 26, 2013.

The Director of the Federal Register approved the incorporation by reference of certain publications listed in this AD as of July 26, 2013.

The Director of the Federal Register approved the incorporation by reference of certain other publications listed in this AD as of December 10, 2010 ((75 FR 68181, November 5, 2010); corrected (75 FR 78883, December 17, 2010)).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Discussion

We issued a notice of proposed rulemaking (NPRM) to amend 14 CFR part 39 to include an AD that would apply to the specified products. That NPRM was published in the Federal Register on October 2, 2012 (77 FR 60064), and proposed to supersede AD 2010-23-07, Amendment 39-16496 ((75 FR 68181, November 5, 2010); corrected (75 FR 78883, December 17, 2010)). That NPRM proposed to correct an unsafe condition for the specified products. The European Aviation Safety Agency (EASA), which is the Technical Agent for the Member States of the European Community, has issued EASA Airworthiness Directive 2010-0164, dated August 5, 2010 (referred to after this as “the MCAI”), to correct an unsafe condition for the specified products. The MCAI states:

Surface defects were visually detected on the rudder of one A319 and one A321 in-service aeroplane.

Investigation has determined that the defects reported on both rudders corresponded to areas that had been reworked in production. The investigation confirmed that the defects were a result of de-bonding between the skin and honeycomb core.

An extended de-bonding, if not detected and corrected, may degrade the structural integrity of the rudder. The loss of the rudder leads to degradation of the handling qualities and reduces the controllability of the aeroplane.

EASA AD 2009-0141 required inspections of specific areas and, when necessary, the application of corrective actions for those rudders where production reworks have been identified.

This [EASA] AD retains the requirements of EASA AD 2009-0141 (addressing the populations of rudders affected by AOT A320-55-1038), which is superseded, and requires:

—a local ultrasonic inspection for reinforced area instead of the local thermography inspection, which is maintained for non-reinforced areas, and

—additional work performance for rudders on which this thermography inspection has been performed in the reinforced area, and

—additional work performance for some rudders on which an additional area requiring inspections is defined.

This [EASA] AD also addresses the populations of rudders affected by AOT A320-55-1039 and Airbus SB A320-55-1035, A320-55-1036 and A320-55-1037 which were not included in EASA AD 2009-0141.

Part number (P/N) D554 71000 020 00, serial number (S/N) TS-1494; and P/N D554 71002 000 00 0002, S/N TS-2212; are listed in Appendix A of the MCAI. These two items are included in this AD, because they were not listed in previous AD 2010-23-07, Amendment 39-16496 ((75 FR 68181, November 5, 2010); corrected (75 FR 78883, December 17, 2010)). This AD requires the permanent restoration of vacuum loss holes and does not allow the temporary restoration with self-adhesive patches, or temporary restoration with resin that is specified in the MCAI. You may obtain further information by examining the MCAI in the AD docket.

Comments

We gave the public the opportunity to participate in developing this AD. We considered the comments received.

Support for the NPRM (77 FR 60064, October 2, 2012)

United Airlines (UAL) stated that it generally agrees with the proposed requirements of the NPRM (77 FR 60064, October 2, 2012).

Request for Additional Compliance Time

UAL requested that we add “a grace period from the AD effective date” for the compliance time for the inspection specified in paragraph (y) of the NPRM (77 FR 60064, October 2, 2012). UAL stated that some rudders used in sampling inspections may be over the compliance threshold specified in paragraph (y) of the NPRM. UAL proposed an alternative method of inspection for the affected rudders.

We partially agree. We agree with adding a compliance time of 30 days after the effective date of this AD for the inspection specified in paragraph (y) of this AD. We disagree with the commenter's proposed alternate method of inspection because no justification was submitted to substantiate that this alternate inspection method would adequately address the identified unsafe condition. Under the provisions of paragraph (ff) of this AD, we will consider requests for approval of an alternate method of compliance (AMOC) if sufficient data are submitted to substantiate that an alternate inspection method would provide an acceptable level of safety.

Request To Correct Contact Information

Airbus requested that we change certain contact information. Airbus stated that paragraphs (j) and (dd) of the NPRM (77 FR 60064, October 2, 2012) should state that, for negative findings, submit the report to SEES1, Customer Services, fax +33 (0)5 61 93 36 14. Airbus also requested that we replace EAS with EIAS in paragraph (gg)(2) of the NPRM.

We agree and have changed paragraphs (j) and (dd) of this AD accordingly. We have also included the term EIAS in paragraphs (gg)(2) and (hh)(5) of this AD.

Request for Permanent Repair Approval

Airbus requested that we consider each Airbus Repair Approval Sheet (RAS) approved under Airbus Design Organization Approval (DOA) EASA.21J.031, provided to each rudder after damage is reported, as an approved method for permanent repair of rudder damage.

We agree. Airbus is an EASA delegated agent and therefore a RAS approved under Airbus Design Organization Approval (DOA) EASA.21J.031 would be method of compliance for a repair required by this AD. We have not changed this AD in this regard.

Request To Clarify Temporary Repairs

Airbus requested that we clarify why the NPRM (77 FR 60064, October 2, 2012) does not allow the temporary restoration with self-adhesive patches, or the temporary restoration with resin, which are specified in the MCAI.

We agree to clarify. Airbus All Operators Telex (AOT) A320-55A1038, Revision 02, dated September 28, 2009, does not provide specific procedures for operators to apply and inspect temporary restoration of vacuum loss inspection holes. This service information also does not specify pass/fail criteria for the detailed visual inspections associated with temporary repairs. This service information states that details of the hole restoration are provided in technical adaptations. We do not have access to technical adaptations for incorporating the technical adaptations by reference. Under the provisions of paragraph (ff) of this AD, we will consider requests for approval of an AMOC if sufficient data are submitted to specify an acceptable process for temporary repairs and that those temporary repairs would provide an acceptable level of safety. We have not changed the AD in this regard.

Additional Changes Made to This AD

In the NPRM (77 FR 60064, October 2, 2012), we included rudders P/N D554 71000 020 00, S/N TS-1494; and P/N D554 71002 000 00 0002, S/N TS-2212 in table 6 to paragraph (c) of the NPRM. In this final rule, we have specified these part/serial numbers in paragraphs (c), (aa), and (ee) of this AD, and removed table 6 to paragraph (c) of this AD.

We have also revised this final rule to change tables 4a, 4b, 5a, and 5b to figures 1, 2, 3, and 4 of this AD; we made no change to the content of those tables. These changes were made for formatting purposes only.

Conclusion

We reviewed the available data, including the comments received, and determined that air safety and the public interest require adopting the AD with the changes described previously—and minor editorial changes. We have determined that these changes:

• Are consistent with the intent that was proposed in the NPRM (77 FR 60064, October 2, 2012) for correcting the unsafe condition; and

• Do not add any additional burden upon the public than was already proposed in the NPRM (77 FR 60064, October 2, 2012).

Costs of Compliance

We estimate that this AD will affect about 721 products of U.S. registry.

The actions that are required by AD 2010-23-07, Amendment 39-16496 ((75 FR 68181, November 5, 2010); corrected (75 FR 78883, December 17, 2010)), and retained in this AD take about 11 work-hours per product, at an average labor rate of $85 per work hour. The average labor rate is $85 per work-hour. Based on these figures, we estimate the cost of the currently required actions on U.S. operators to be $674,135, or $935 per product.

We estimate that it will take about 11 work-hours per product to comply with the new basic requirements of this AD. The average labor rate is $85 per work-hour. Based on these figures, we estimate the cost of the AD on U.S. operators to be $674,135, or $935 per product.

In addition, we estimate that any necessary follow-on actions would take about 12 work-hours and require parts costing $10,000, for a cost of $11,020 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2010-23-07, Amendment 39-16496 ((75 FR 68181, November 5, 2010); corrected (75 FR 78883, December 17, 2010)), and adding the following new AD:

2013-05-11 Airbus: Amendment 39-17383. Docket No. FAA-2012-1034; Directorate Identifier 2011-NM-051-AD.

(a) Effective Date

This airworthiness directive (AD) becomes effective July 26, 2013.

(b) Affected ADs

This AD supersedes AD 2010-23-07, Amendment 39-16496 ((75 FR 68181, November 5, 2010); corrected (75 FR 78883, December 17, 2010)).

(c) Applicability

This AD applies to the Airbus airplanes identified in paragraphs (c)(1), (c)(2), (c)(3), and (c)(4) of this AD, certificated in any category, all serial numbers (S/N) having a rudder with a part number (P/N) and serial number listed in tables 1, 2, and 3, and figures 1 and 2, and 3 and 4 of this AD; and rudders P/N D554 71000 020 00, S/N TS-1494, and P/N D554 71002 000 00 0002, S/N TS-2212.

(1) Model A318-111, -112, -121, and -122 airplanes.

(2) Model A319-111, -112, -113, -114, -115, -131, -132, and -133 airplanes.

(3) Model A320-111, -211, -212, -214, -231, -232, and -233 airplanes.

(4) Model A321-111, -112, -131, -211, -212, -213, -231, and -232 airplanes.

Table 1 to Paragraph (c) of This AD
Rudder P/N | Affected rudder S/N
D554 71000 010 00 | TS-1069
D554 71000 010 00 | TS-1090
D554 71000 012 00 | TS-1227
D554 71000 014 00 | TS-1350
D554 71000 014 00 | TS-1366
D554 71000 014 00 | TS-1371
D554 71000 014 00 | TS-1383
D554 71000 014 00 | TS-1387
D554 71000 016 00 | TS-1412
D554 71000 018 00 | TS-1443
D554 71000 018 00 | TS-1444
D554 71000 018 00 | TS-1468
D554 71000 020 00 | TS-1480
D554 71000 020 00 | TS-1491
D554 71000 020 00 | TS-1495
D554 71000 020 00 | TS-1498
D554 71000 020 00 | TS-1499
D554 71000 020 00 | TS-1500
D554 71000 020 00 | TS-1505
D554 71000 020 00 | TS-1506
D554 71000 020 00 | TS-1507
D554 71000 020 00 | TS-1509
D554 71000 020 00 | TS-1515
D554 71000 020 00 | TS-1528
D554 71000 020 00 | TS-1530
D554 71000 020 00 | TS-1532
D554 71000 020 00 | TS-1535
D554 71000 020 00 | TS-1536
D554 71000 020 00 | TS-1538
D554 71001 000 00 | TS-1537
D554 71001 000 00 | TS-1540
D554 71001 000 00 | TS-1541
D554 71001 000 00 | TS-1543
D554 71001 000 00 | TS-1548
D554 71001 000 00 | TS-1549
D554 71001 000 00 | TS-1551
D554 71001 000 00 | TS-1554
D554 71001 000 00 | TS-1555
D554 71001 000 00 | TS-1556
D554 71001 000 00 | TS-1557
D554 71001 000 00 | TS-1559
D554 71001 000 00 | TS-1562
D554 71001 000 00 | TS-1563
D554 71001 000 00 | TS-1564
D554 71001 000 00 | TS-1565
D554 71001 000 00 | TS-1566
D554 71001 000 00 | TS-1567
D554 71001 000 00 | TS-1568
D554 71001 000 00 | TS-1569
D554 71001 000 00 | TS-1570
D554 71001 000 00 | TS-1573
D554 71001 000 00 | TS-1575
D554 71001 000 00 | TS-1578
D554 71001 000 00 | TS-1579
D554 71001 000 00 | TS-1580
D554 71001 000 00 | TS-1581
D554 71001 000 00 | TS-1582
D554 71001 000 00 | TS-1584
D554 71001 000 00 | TS-1593
D554 71001 000 00 | TS-1594
D554 71001 000 00 | TS-1596
D554 71001 000 00 | TS-1599
D554 71001 000 00 | TS-1603
D554 71001 000 00 | TS-1609
D554 71001 000 00 | TS-1621
D554 71001 000 00 | TS-1626
D554 71001 000 00 | TS-1627
D554 71001 000 00 | TS-1635
D554 71001 000 00 | TS-1637
D554 71002 000 00 | TS-2306
D554 71002 000 00 0001 | TS-2003
D554 71002 000 00 0001 | TS-2005
D554 71002 000 00 0001 | TS-2013
D554 71002 000 00 0001 | TS-2016
D554 71002 000 00 0001 | TS-2019
D554 71002 000 00 0001 | TS-2020
D554 71002 000 00 0001 | TS-2022
D554 71002 000 00 0001 | TS-2024
D554 71002 000 00 0001 | TS-2026
D554 71002 000 00 0001 | TS-2031
D554 71002 000 00 0001 | TS-2033
D554 71002 000 00 0001 | TS-2043
D554 71002 000 00 0001 | TS-2047
D554 71002 000 00 0001 | TS-2048
D554 71002 000 00 0001 | TS-2054
D554 71002 000 00 0001 | TS-2058
D554 71002 000 00 0001 | TS-2059
D554 71002 000 00 0001 | TS-2064
D554 71002 000 00 0001 | TS-2072
D554 71002 000 00 0001 | TS-2075
D554 71002 000 00 0001 | TS-2076
D554 71002 000 00 0001 | TS-2079
D554 71002 000 00 0001 | TS-2083
D554 71002 000 00 0001 | TS-2089
D554 71002 000 00 0002 | TS-2090
D554 71002 000 00 0002 | TS-2095
D554 71002 000 00 0002 | TS-2103
D554 71002 000 00 0002 | TS-2116
D554 71002 000 00 0002 | TS-2122
D554 71002 000 00 0002 | TS-2133
D554 71002 000 00 0002 | TS-2142
D554 71002 000 00 0002 | TS-2147
D554 71002 000 00 0002 | TS-2157
D554 71002 000 00 0002 | TS-2158
D554 71002 000 00 0002 | TS-2162
D554 71002 000 00 0002 | TS-2167
D554 71002 000 00 0002 | TS-2174
D554 71002 000 00 0002 | TS-2176
D554 71002 000 00 0002 | TS-2181
D554 71002 000 00 0002 | TS-2189
D554 71002 000 00 0002 | TS-2191
D554 71002 000 00 0002 | TS-2203
D554 71002 000 00 0002 | TS-2205
D554 71002 000 00 0002 | TS-2207
D554 71002 000 00 0002 | TS-2224
D554 71002 000 00 0002 | TS-2229
D554 71002 000 00 0002 | TS-2233
D554 71002 000 00 0002 | TS-2241
D554 71002 000 00 0002 | TS-2246
D554 71002 000 00 0002 | TS-2249
D554 71002 000 00 0002 | TS-2270
D554 71002 000 00 0002 | TS-2275
D554 71002 000 00 0002 | TS-2289
D554 71002 000 00 0002 | TS-2290
D554 71002 000 00 0002 | TS-2294
D554 71002 000 00 0002 | TS-2309
D554 71002 000 00 0002 | TS-2347
D554 71002 000 00 0002 | TS-2348
D554 71002 000 00 0002 | TS-2349
D554 71002 000 00 0002 | TS-2357
D554 71002 000 00 0002 | TS-2361
D554 71002 000 00 0002 | TS-2380
D554 71002 000 00 0002 | TS-2383
D554 71002 000 00 0002 | TS-2390
D554 71002 000 00 0002 | TS-2394
D554 71002 000 00 0002 | TS-2396
D554 71002 000 00 0002 | TS-2401
D554 71002 000 00 0002 | TS-2406
D554 71002 000 00 0002 | TS-2461
D554 71002 000 00 0002 | TS-2468
D554 71002 000 00 0002 | TS-2516
D554 71002 000 00 0002 | TS-2537
D554 71002 000 00 0002 | TS-2543
D554 71002 000 00 0002 | TS-2546
D554 71002 000 00 0002 | TS-2619
D554 71002 000 00 0002 | TS-2684
D554 71002 000 00 0003 | TS-2752
D554 71002 000 00 0003 | TS-2869
D554 71002 000 00 0003 | TS-2876
D554 71002 000 00 0003 | TS-2970
D554 71002 000 00 0003 | TS-2971
D554 71002 000 00 0003 | TS-2987
D554 71004 000 00 0000 | TS-3083
D554 71004 000 00 0000 | TS-3197

Note 1 to paragraph (c) of this AD: For table 1 to paragraph (c) of this AD, only rudder P/N D554 71000 010 00 having affected rudder S/Ns TS-1069 and TS-1090, and rudder P/N D554 71000 012 00 having affected rudder S/N TS-1227, have a core density of 24 kilogram (kg)/meters cubed (m³).

Table 2 to Paragraph (c) of This AD
Rudder P/N | Affected rudder S/N
D554-71000-014-00 | TS-1278
D554-71002-000-00-0001 | TS-2081
D554-71002-000-00-0002 | TS-2125
D554-71002-000-00-0002 | TS-2129
D554-71002-000-00-0002 | TS-2160
D554-71002-000-00-0002 | TS-2201
D554-71002-000-00-0002 | TS-2328
D554-71002-000-00-0002 | TS-2425
D554-71002-000-00-0002 | TS-2511
D554-71002-000-00-0003 | TS-2768
D554-71002-000-00-0003 | TS-2999
D554-71002-000-00-0003 | TS-3004
D554-71002-000-00-0003 | TS-3051
D554-71004-000-00-0001 | TS-3288

Table 3 to Paragraph (c) of This AD
Rudder P/N | Affected rudder S/N
D554-71000-008-00 | TS-1032
D554-71000-010-00 | TS-1092
D554-71000-014-00 | TS-1314
D554-71000-018-00 | TS-1445
D554-71000-020-00 | TS-1520
D554-71002-000-00-0001 | TS-2037
D554-71002-000-00-0002 | TS-2109
D554-71002-000-00-0002 | TS-2123
D554-71002-000-00-0002 | TS-2124
D554-71002-000-00-0002 | TS-2424
D554-71002-000-00-0002 | TS-2559
D554-71002-000-00-0003 | TS-3061
D554-71004-000-00-0001 | TS-3694
D554-71004-000-00-0001 | TS-3709
D554-71004-000-00-0002 | TS-4148

Note 2 to paragraph (c) of this AD: For table 3 to paragraph (c) of this AD, only rudder P/N D554-71000-008-00 having affected rudder S/N TS-1032, and rudder P/N D554-71000-010-00 having affected rudder S/N TS-1092, have a core density of 24 kg/m³.

Figure 1—Rudder P/N With Any S/N Listed in Figure 2 of This AD

Rudder P/N With Any S/N Listed in Figure 2 of This AD
D5547100000000
D5547100000200
D5547100000400
D5547100000600
D5547100000800
D5547100001000
D5547100001200
D5547100001400
D5547100001600
D5547100001800
D5547100002000
D5547100100000
D5547100200000
D5547100300000
D5547100400000

Figure 2—Affected S/Ns for Rudders Listed in Figure 1 of This AD

Affected S/N for Rudders Listed in Figure 1 of This AD
TS-1368 | TS-1616 | TS-2080 | TS-2159 | TS-2222 | TS-2276 | TS-2327
TS-1389 | TS-1619 | TS-2082 | TS-2163 | TS-2223 | TS-2279 | TS-2330
TS-1496 | TS-1622 | TS-2084 | TS-2168 | TS-2227 | TS-2280 | TS-2331
TS-1501 | TS-1632 | TS-2085 | TS-2169 | TS-2228 | TS-2281 | TS-2332
TS-1503 | TS-1639 | TS-2086 | TS-2170 | TS-2230 | TS-2284 | TS-2333
TS-1508 | TS-2004 | TS-2094 | TS-2172 | TS-2231 | TS-2285 | TS-2334
TS-1516 | TS-2008 | TS-2096 | TS-2175 | TS-2232 | TS-2286 | TS-2336
TS-1527 | TS-2010 | TS-2097 | TS-2177 | TS-2234 | TS-2293 | TS-2337
TS-1529 | TS-2012 | TS-2098 | TS-2179 | TS-2235 | TS-2297 | TS-2338
TS-1534 | TS-2014 | TS-2100 | TS-2182 | TS-2236 | TS-2298 | TS-2339
TS-1545 | TS-2017 | TS-2101 | TS-2183 | TS-2238 | TS-2299 | TS-2340
TS-1547 | TS-2018 | TS-2106 | TS-2185 | TS-2240 | TS-2302 | TS-2341
TS-1553 | TS-2023 | TS-2113 | TS-2192 | TS-2242 | TS-2303 | TS-2343
TS-1560 | TS-2025 | TS-2115 | TS-2193 | TS-2244 | TS-2304 | TS-2346
TS-1561 | TS-2029 | TS-2118 | TS-2195 | TS-2245 | TS-2305 | TS-2352
TS-1571 | TS-2032 | TS-2126 | TS-2199 | TS-2248 | TS-2307 | TS-2353
TS-1572 | TS-2034 | TS-2130 | TS-2200 | TS-2250 | TS-2310 | TS-2354
TS-1574 | TS-2039 | TS-2131 | TS-2204 | TS-2251 | TS-2311 | TS-2355
TS-1576 | TS-2040 | TS-2132 | TS-2206 | TS-2252 | TS-2312 | TS-2356
TS-1577 | TS-2041 | TS-2134 | TS-2208 | TS-2254 | TS-2313 | TS-2358
TS-1583 | TS-2046 | TS-2136 | TS-2209 | TS-2258 | TS-2315 | TS-2360
TS-1585 | TS-2050 | TS-2140 | TS-2210 | TS-2259 | TS-2316 | TS-2362
TS-1588 | TS-2051 | TS-2143 | TS-2211 | TS-2260 | TS-2319 | TS-2363
TS-1591 | TS-2052 | TS-2144 | TS-2213 | TS-2261 | TS-2320 | TS-2364
TS-1600 | TS-2053 | TS-2145 | TS-2216 | TS-2262 | TS-2321 | TS-2365
TS-1602 | TS-2056 | TS-2149 | TS-2217 | TS-2265 | TS-2322 | TS-2366
TS-1607 | TS-2060 | TS-2152 | TS-2218 | TS-2268 | TS-2323 | TS-2367
TS-1608 | TS-2069 | TS-2154 | TS-2220 | TS-2271 | TS-2325 | TS-2370
TS-1614 | TS-2070 | TS-2155 | TS-2221 | TS-2272 | TS-2326 | TS-2371
TS-2372 | TS-2483 | TS-2583 | TS-2665 | TS-2743 | TS-2813 | TS-2878
TS-2373 | TS-2484 | TS-2584 | TS-2666 | TS-2744 | TS-2814 | TS-2879
TS-2374 | TS-2486 | TS-2585 | TS-2667 | TS-2745 | TS-2815 | TS-2880
TS-2377 | TS-2488 | TS-2586 | TS-2668 | TS-2747 | TS-2816 | TS-2881
TS-2381 | TS-2491 | TS-2587 | TS-2671 | TS-2749 | TS-2818 | TS-2882
TS-2382 | TS-2493 | TS-2590 | TS-2674 | TS-2751 | TS-2819 | TS-2885
TS-2387 | TS-2494 | TS-2591 | TS-2675 | TS-2753 | TS-2821 | TS-2886
TS-2388 | TS-2498 | TS-2592 | TS-2676 | TS-2754 | TS-2822 | TS-2890
TS-2392 | TS-2499 | TS-2593 | TS-2677 | TS-2755 | TS-2823 | TS-2891
TS-2393 | TS-2501 | TS-2596 | TS-2679 | TS-2756 | TS-2824 | TS-2892
TS-2395 | TS-2505 | TS-2597 | TS-2680 | TS-2757 | TS-2826 | TS-2893
TS-2397 | TS-2506 | TS-2601 | TS-2681 | TS-2758 | TS-2827 | TS-2896
TS-2398 | TS-2508 | TS-2602 | TS-2682 | TS-2759 | TS-2828 | TS-2897
TS-2399 | TS-2510 | TS-2603 | TS-2683 | TS-2760 | TS-2830 | TS-2898
TS-2407 | TS-2512 | TS-2605 | TS-2685 | TS-2762 | TS-2831 | TS-2899
TS-2408 | TS-2514 | TS-2606 | TS-2688 | TS-2765 | TS-2832 | TS-2900
TS-2409 | TS-2517 | TS-2611 | TS-2689 | TS-2771 | TS-2833 | TS-2903
TS-2410 | TS-2518 | TS-2612 | TS-2691 | TS-2772 | TS-2834 | TS-2904
TS-2411 | TS-2521 | TS-2614 | TS-2695 | TS-2773 | TS-2835 | TS-2906
TS-2412 | TS-2522 | TS-2615 | TS-2697 | TS-2775 | TS-2836 | TS-2907
TS-2415 | TS-2527 | TS-2616 | TS-2698 | TS-2776 | TS-2837 | TS-2908
TS-2417 | TS-2529 | TS-2617 | TS-2699 | TS-2778 | TS-2838 | TS-2909
TS-2421 | TS-2532 | TS-2620 | TS-2700 | TS-2779 | TS-2839 | TS-2910
TS-2422 | TS-2536 | TS-2625 | TS-2701 | TS-2780 | TS-2840 | TS-2911
TS-2423 | TS-2540 | TS-2626 | TS-2707 | TS-2782 | TS-2843 | TS-2913
TS-2427 | TS-2544 | TS-2628 | TS-2710 | TS-2783 | TS-2844 | TS-2914
TS-2428 | TS-2545 | TS-2629 | TS-2711 | TS-2784 | TS-2845 | TS-2916
TS-2435 | TS-2547 | TS-2630 | TS-2712 | TS-2785 | TS-2846 | TS-2917
TS-2437 | TS-2551 | TS-2631 | TS-2713 | TS-2786 | TS-2848 | TS-2919
TS-2440 | TS-2552 | TS-2632 | TS-2714 | TS-2788 | TS-2849 | TS-2920
TS-2444 | TS-2553 | TS-2634 | TS-2716 | TS-2790 | TS-2850 | TS-2922
TS-2446 | TS-2554 | TS-2635 | TS-2717 | TS-2791 | TS-2851 | TS-2923
TS-2447 | TS-2555 | TS-2636 | TS-2719 | TS-2792 | TS-2852 | TS-2924
TS-2453 | TS-2558 | TS-2637 | TS-2722 | TS-2793 | TS-2853 | TS-2925
TS-2455 | TS-2562 | TS-2640 | TS-2724 | TS-2794 | TS-2854 | TS-2927
TS-2458 | TS-2563 | TS-2641 | TS-2725 | TS-2795 | TS-2855 | TS-2928
TS-2460 | TS-2566 | TS-2642 | TS-2726 | TS-2796 | TS-2856 | TS-2929
TS-2463 | TS-2568 | TS-2644 | TS-2727 | TS-2797 | TS-2857 | TS-2930
TS-2466 | TS-2570 | TS-2647 | TS-2728 | TS-2799 | TS-2860 | TS-2932
TS-2467 | TS-2571 | TS-2648 | TS-2732 | TS-2801 | TS-2861 | TS-2933
TS-2471 | TS-2572 | TS-2650 | TS-2734 | TS-2803 | TS-2862 | TS-2934
TS-2472 | TS-2573 | TS-2651 | TS-2735 | TS-2804 | TS-2863 | TS-2935
TS-2474 | TS-2574 | TS-2653 | TS-2736 | TS-2805 | TS-2864 | TS-2937
TS-2476 | TS-2575 | TS-2656 | TS-2738 | TS-2807 | TS-2865 | TS-2938
TS-2477 | TS-2576 | TS-2657 | TS-2739 | TS-2808 | TS-2868 | TS-2939
TS-2478 | TS-2579 | TS-2658 | TS-2740 | TS-2810 | TS-2872 | TS-2943
TS-2481 | TS-2580 | TS-2659 | TS-2741 | TS-2811 | TS-2874 | TS-2944
TS-2482 | TS-2581 | TS-2662 | TS-2742 | TS-2812 | TS-2877 | TS-2946
TS-2948 | TS-3040 | TS-3113 | TS-3177 | TS-3249 | TS-3689 | TS-3928
TS-2949 | TS-3043 | TS-3114 | TS-3178 | TS-3250 | TS-3690 | TS-3936
TS-2950 | TS-3046 | TS-3116 | TS-3179 | TS-3251 | TS-3695 | TS-3939
TS-2951 | TS-3049 | TS-3119 | TS-3180 | TS-3252 | TS-3699 | TS-3942
TS-2953 | TS-3050 | TS-3120 | TS-3181 | TS-3253 | TS-3702 | TS-3950
TS-2954 | TS-3052 | TS-3121 | TS-3182 | TS-3255 | TS-3703 | TS-3958
TS-2955 | TS-3054 | TS-3122 | TS-3183 | TS-3256 | TS-3704 | TS-3961
TS-2957 | TS-3055 | TS-3123 | TS-3184 | TS-3257 | TS-3706 | TS-3968
TS-2958 | TS-3056 | TS-3124 | TS-3185 | TS-3259 | TS-3708 | TS-3987
TS-2959 | TS-3058 | TS-3125 | TS-3186 | TS-3262 | TS-3710 | TS-3993
TS-2960 | TS-3060 | TS-3126 | TS-3188 | TS-3271 | TS-3717 | TS-3995
TS-2962 | TS-3065 | TS-3127 | TS-3189 | TS-3276 | TS-3718 | TS-4003
TS-2964 | TS-3066 | TS-3129 | TS-3191 | TS-3278 | TS-3734 | TS-4027
TS-2965 | TS-3071 | TS-3131 | TS-3193 | TS-3282 | TS-3743 | TS-4031
TS-2968 | TS-3072 | TS-3132 | TS-3194 | TS-3286 | TS-3761 | TS-4087
TS-2969 | TS-3074 | TS-3133 | TS-3195 | TS-3289 | TS-3772 | TS-4099
TS-2973 | TS-3075 | TS-3134 | TS-3198 | TS-3290 | TS-3780 | TS-4118
TS-2976 | TS-3076 | TS-3135 | TS-3200 | TS-3291 | TS-3789 | TS-4145
TS-2980 | TS-3077 | TS-3138 | TS-3201 | TS-3292 | TS-3805 | TS-4146
TS-2984 | TS-3078 | TS-3139 | TS-3202 | TS-3295 | TS-3820 | TS-4147
TS-2985 | TS-3079 | TS-3140 | TS-3204 | TS-3297 | TS-3821 | TS-4163
TS-2986 | TS-3080 | TS-3141 | TS-3205 | TS-3306 | TS-3822 | TS-4167
TS-2988 | TS-3081 | TS-3142 | TS-3207 | TS-3309 | TS-3824 | TS-4175
TS-2991 | TS-3082 | TS-3143 | TS-3210 | TS-3310 | TS-3825 | TS-4178
TS-2998 | TS-3084 | TS-3144 | TS-3215 | TS-3317 | TS-3839 | TS-4181
TS-3001 | TS-3087 | TS-3145 | TS-3216 | TS-3320 | TS-3841 | TS-4186
TS-3002 | TS-3088 | TS-3148 | TS-3217 | TS-3328 | TS-3843 | TS-4195
TS-3003 | TS-3089 | TS-3149 | TS-3218 | TS-3388 | TS-3844 | TS-4212
TS-3005 | TS-3090 | TS-3151 | TS-3219 | TS-3392 | TS-3846 | TS-4232
TS-3006 | TS-3091 | TS-3154 | TS-3221 | TS-3395 | TS-3849 | TS-4271
TS-3009 | TS-3093 | TS-3155 | TS-3222 | TS-3429 | TS-3850 | TS-4331
TS-3011 | TS-3094 | TS-3156 | TS-3223 | TS-3441 | TS-3851 | TS-4345
TS-3016 | TS-3096 | TS-3158 | TS-3224 | TS-3516 | TS-3853 | TS-4366
TS-3018 | TS-3097 | TS-3159 | TS-3226 | TS-3561 | TS-3855 | TS-4396
TS-3020 | TS-3098 | TS-3160 | TS-3227 | TS-3567 | TS-3857 | TS-4401
TS-3021 | TS-3100 | TS-3161 | TS-3232 | TS-3574 | TS-3860 | TS-4420
TS-3025 | TS-3101 | TS-3162 | TS-3234 | TS-3590 | TS-3862 | TS-4461
TS-3026 | TS-3102 | TS-3164 | TS-3235 | TS-3591 | TS-3863 | TS-4480
TS-3027 | TS-3103 | TS-3166 | TS-3236 | TS-3595 | TS-3871 | TS-4636
TS-3028 | TS-3104 | TS-3167 | TS-3237 | TS-3598 | TS-3878 | TS-4651
TS-3030 | TS-3105 | TS-3168 | TS-3240 | TS-3609 | TS-3879 | TS-4678
TS-3031 | TS-3106 | TS-3169 | TS-3241 | TS-3625 | TS-3882 | TS-4696
TS-3032 | TS-3107 | TS-3170 | TS-3242 | TS-3638 | TS-3883 | TS-4770
TS-3033 | TS-3108 | TS-3171 | TS-3243 | TS-3650 | TS-3885 | N/A
TS-3034 | TS-3109 | TS-3172 | TS-3244 | TS-3669 | TS-3910 | N/A
TS-3035 | TS-3110 | TS-3174 | TS-3245 | TS-3684 | TS-3914 | N/A
TS-3037 | TS-3111 | TS-3175 | TS-3247 | TS-3685 | TS-3921 | N/A
TS-3038 | TS-3112 | TS-3176 | TS-3248 | TS-3687 | TS-3924 | N/A

Figure 3—Rudder P/N With Any S/N Listed in Figure 4 of This AD

Rudder P/N With Any S/N Listed in Figure 4 of This AD
D5547100000000
D5547100000200
D5547100000400
D5547100000600
D5547100000800
D5547100001000
D5547100001200
D5547100001400
D5547100001600
D5547100001800
D5547100002000
D5547100100000
D5547100200000
D5547100300000
D5547100400000

Figure 4—Rudder S/N With Any P/N Listed in Figure 3 of This AD

Rudder S/N With Any P/N Listed in Figure 3 of This AD
TS-2141
TS-2269
TS-2274
TS-2295
TS-2317
TS-2664
TS-2715

(d) Subject

Air Transport Association (ATA) of America Code 55, Stabilizers.

(e) Reason

This AD was prompted by reports of surface defects on rudders that were the result of debonding between the skin and honeycomb core. We are issuing this AD to detect and correct extended de-bonding, which might degrade the structural integrity of the rudder. The loss of the rudder leads to degradation of the handling qualities and reduces the controllability of the airplane.

(f) Compliance

You are responsible for having the actions required by this AD performed within the compliance times specified, unless the actions have already been done.

(g) Retained Repetitive Inspections of Rudders With a Core Density of 24 kg/m³

This paragraph restates the requirements of paragraph (g) of AD 2010-23-07, Amendment 39-16496 ((75 FR 68181, November 5, 2010); corrected (75 FR 78883, December 17, 2010)). For rudders identified in table 1 to paragraph (c) of this AD with a honeycomb core density of 24 kg/m³ (rudder P/N D554 71000 010 00 having affected rudder S/Ns TS-1069 and TS-1090, and rudder P/N D554 71000 012 00 having affected rudder S/N TS-1227), do the actions specified in paragraphs (g)(1), (g)(2), (g)(3), and (g)(4) of this AD, in accordance with Airbus All Operators Telex (AOT) A320-55A1038, Revision 01, dated June 10, 2009; or Airbus AOT A320-55A1038, Revision 02, dated September 28, 2009; for the locations defined in the applicable AOT specified in this paragraph.

(1) Within 200 days after December 10, 2010 (the effective date of AD 2010-23-07, Amendment 39-16496 ((75 FR 68181, November 5, 2010); corrected (75 FR 78883, December 17, 2010))): Perform a vacuum loss inspection on the rudder reinforced area.

(2) Within 20 months after December 10, 2010 (the effective date of AD 2010-23-07, Amendment 39-16496 ((75 FR 68181, November 5, 2010); corrected (75 FR 78883, December 17, 2010))): Perform an elasticity laminate checker (ELCH) inspection on the rudder trailing edge area. Repeat the inspection two times, at intervals not to exceed 4,500 flight cycles, but not sooner than 4,000 flight cycles after the last inspection.

(3) Within 200 days after December 10, 2010 (the effective date of AD 2010-23-07, Amendment 39-16496 ((75 FR 68181, November 5, 2010); corrected (75 FR 78883, December 17, 2010))): Perform an ELCH inspection of the other areas (splice/lower rib/upper edge/leading edge/other specified locations). Repeat the inspection at intervals not to exceed 1,500 flight cycles or 200 days, whichever comes first.

(4) Within 20 months after December 10, 2010 (the effective date of AD 2010-23-07, Amendment 39-16496 ((75 FR 68181, November 5, 2010); corrected (75 FR 78883, December 17, 2010))): Perform a vacuum loss inspection of the other areas (splice/lower rib/upper edge/leading edge/other specified locations). Accomplishment of the action specified in paragraph (g)(4) of this AD terminates the requirements of paragraph (g)(3) of this AD.

(h) Retained Repetitive Inspections of Rudders Without a Core Density of 24 kg/m³

This paragraph restates the requirements of paragraph (h) of AD 2010-23-07, Amendment 39-16496 ((75 FR 68181, November 5, 2010); corrected (75 FR 78883, December 17, 2010)). For rudders that do not have a honeycomb core density of 24 kg/m³ (all rudders identified in table 1 to paragraph (c) of this AD, except rudder P/N D554 71000 010 00 having affected rudder S/Ns TS-1069 and TS-1090, and rudder P/N D554 71000 012 00 having affected rudder S/N TS-1227), do the actions specified in paragraphs (h)(1), (h)(2), (h)(3), and (h)(4) of this AD, in accordance with Airbus AOT A320-55A1038, Revision 01, dated June 10, 2009; or Airbus AOT A320-55A1038, Revision 02, dated September 28, 2009; for the locations defined in the applicable AOT specified in this paragraph. As of the effective date of this AD, use only Airbus AOT A320-55A1038, Revision 02, dated September 28, 2009. For this paragraph, “reference date” is defined as December 10, 2010 (the effective date of AD 2010-23-07), or the date when the rudder will accumulate 20,000 total flight cycles from its first installation on an airplane, whichever occurs later.

(1) Within 200 days after the reference date, perform a vacuum loss inspection on the rudder reinforced area.

(2) Within 20 months after the reference date, perform an ELCH inspection on the rudder trailing edge area. Repeat the inspection two times at intervals not to exceed 4,500 flight cycles, but not sooner than 4,000 flight cycles after the last inspection.

(3) Within 200 days after the reference date, perform an ELCH inspection of the other areas (splice/lower rib/upper edge/leading edge/other specified locations). Repeat the inspection at intervals not to exceed 1,500 flight cycles or 200 days, whichever comes first.

(4) Within 20 months after the reference date, perform a vacuum loss inspection of the other areas (splice/lower rib/upper edge/leading edge/other specified locations). Accomplishment of the actions specified in this paragraph terminates the requirements of paragraph (h)(3) of this AD.

(i) Retained Corrective Actions for De-Bonding

This paragraph restates the requirements of paragraph (i) of AD 2010-23-07, Amendment 39-16496 ((75 FR 68181, November 5, 2010); corrected (75 FR 78883, December 17, 2010)). In case of de-bonding found during any inspection required by paragraph (g) or (h) of this AD, before further flight, contact Airbus for further instructions and apply the associated instructions and corrective actions in accordance with the approved data provided, or repair the debonding using a method approved by either the Manager, International Branch, ANM-116, Transport Airplane Directorate, FAA, or the European Aviation Safety Agency (EASA) (or its delegated agent). After the effective date of this AD, repair the debonding using only a method approved by either the Manager, International Branch, ANM-116; or the EASA (or its delegated agent).

(j) Retained Reporting for Findings From Actions Required by Paragraphs (g) and (h) of This AD

This paragraph restates the requirements of paragraph (j) of AD 2010-23-07, Amendment 39-16496 ((75 FR 68181, November 5, 2010); corrected (75 FR 78883, December 17, 2010)). At the applicable time specified in paragraph (j)(1) or (j)(2) of this AD, submit a report of the findings (both positive and negative) of each inspection required by paragraphs (g) and (h) of this AD. The report must include the inspection results, as specified in Airbus Technical Disposition TD/K4/S2/27086/2009, Issue E, dated September 17, 2009. For positive findings, submit the report to either the Manager, Seer1/Seer2/Seer3 Customer Services, fax +33 (0)5 61 93 28 73, email region1.structurerepairsupport@airbus.com, region2.structurerepairsupport@airbus.com, or region3.structurerepairsupport@airbus.com; or AIRTAC (Airbus Technical AOG Center) Customer Services, telephone +33 (0)5 61 93 34 00, fax +33 (0)5 61 93 35 00, email airtac@airbus.com. For negative findings, submit the report to Nicolas Seynaeve, Sees1, Customer Services; telephone +33 (0)5 61 93 34 38; fax +33 (0)5 61 93 36 14; email nicolas.seynaeve@airbus.com; except, as of the effective date of this AD, only submit the report to SEES1, Customer Services, fax +33 (0)5 61 93 36 14.

(1) For any inspection done on or after December 10, 2010 (the effective date of AD 2010-23-07, Amendment 39-16496 ((75 FR 68181, November 5, 2010); corrected (75 FR 78883, December 17, 2010))): Submit the report within 30 days after the inspection.

(2) For any inspection done before December 10, 2010 (the effective date of AD 2010-23-07, Amendment 39-16496 ((75 FR 68181, November 5, 2010); corrected (75 FR 78883, December 17, 2010))): Submit the report within 30 days after December 10, 2010.

(k) Retained Inspection in Additional Areas

This paragraph restates the provisions of paragraph (k) of AD 2010-23-07, Amendment 39-16496, ((75 FR 68181, November 5, 2010); corrected (75 FR 78883, December 17, 2010)). All rudders that have passed the inspection specified in paragraphs (g)(1), (g)(2), (g)(3), (g)(4), (h)(1), (h)(2), (h)(3), and (h)(4) of this AD before December 10, 2010 (the effective date of AD 2010-23-07), in accordance with Airbus AOT A320-55A1038, dated April 22, 2009; or Airbus Technical Disposition TD/K4/S2/27051/2009, Issue B, dated February 25, 2009; are compliant with this AD only for the areas inspected. Additional areas defined in Section 0, “Reason for Revision,” of Airbus AOT A320-55A1038, Revision 01, dated June 10, 2009; or Airbus AOT A320-55A1038, Revision 02, dated September 28, 2009; must be inspected as specified in paragraph (g) or (h) of this AD. For all areas, the repetitive inspections required by paragraph (g) or (h) of this AD remain applicable.

(l) Retained Parts Installation Limitations

This paragraph restates the requirements of paragraph (l) of AD 2010-23-07, Amendment 39-16496 ((75 FR 68181, November 5, 2010); corrected (75 FR 78883, December 17, 2010)). After December 10, 2010 (the effective date of AD 2010-23-07), no rudder listed in table 1 to paragraph (c) of this AD may be installed on any airplane, unless the rudder is inspected in accordance with paragraph (g) or (h) of this AD, as applicable, and all applicable actions specified in paragraph (i) of this AD are done.

(m) New Restoration of Vacuum Loss Holes

If no de-bonding is found during any inspection required by paragraph (g) or (h) of this AD: Before further flight, restore the vacuum loss holes by doing a permanent restoration with resin, in accordance with Note 3 of Airbus AOT A320-55A1038, Revision 02, dated September 28, 2009. Before doing the resin injection, do a local ultrasound inspection in reinforced areas, and a thermography inspection in other areas, for damage, in accordance with Note 3 of Airbus AOT A320-55A1038, Revision 02, dated September 28, 2009. If any damage is found during any inspection required by this paragraph: Before further flight, repair the damage using a method approved by either the Manager, International Branch, ANM-116; or the EASA (or its delegated agent).

(n) New X-Ray, ELCH, Vacuum Loss, or Thermography Inspection

For rudders identified in table 2 to paragraph (c) of this AD, do the actions specified in paragraphs (n)(1) and (n)(2) of this AD, in accordance with Airbus AOT A320-55A1039, dated November 4, 2009, for the locations defined in that AOT. For this paragraph, “reference date” is defined as the effective date of this AD or the date when the rudder will accumulate 20,000 total flight cycles from its first installation on an airplane, whichever occurs later.

(1) Within 20 months after the effective date of this AD, or within 200 days after the reference date, whichever occurs first: Perform x-ray, and/or ELCH, and/or vacuum loss, and/or thermography inspections for damage, as applicable to rudder part number and serial number, in accordance with the instructions of paragraph 4.2.2.1.1. of Airbus AOT A320-55A1039, dated November 4, 2009.

(2) At the applicable time specified in paragraph (n)(2)(i) or (n)(2)(ii) of this AD, send the developed x-ray films and the film layout arrangement, if applicable, to Attn: SDC32 Technical Data and Documentation Services, Airbus Customer Services Directorate, 1 Rond Point Maurice Bellonte, 31707 Blagnac Cedex, France; fax (+33) 5 61 93 28 06; email sb.reporting@airbus.com.

(i) If the inspection was done on or after the effective date of this AD: Submit the x-ray films and the film layout arrangement within 10 days after the inspection.

(ii) If the inspection was done before the effective date of this AD: Submit the x-ray films and the film layout arrangement within 10 days after the effective date of this AD.

(3) If any damage is found during any inspection required by paragraph (n) of this AD: Before further flight, repair the damage using a method approved by either the Manager, International Branch, ANM-116; or the EASA (or its delegated agent).

(o) New ELCH Inspection, Vacuum Loss Inspection, and Repairs

For rudders identified in table 2 to paragraph (c) of this AD: Within 1,500 flight cycles or 200 days after doing the requirements of paragraph (n)(1) of this AD, whichever occurs first, do the actions specified in paragraphs (o)(1) and (o)(2) of this AD.

(1) Perform an ELCH inspection for damage on the rudder trailing edge area, in accordance with the instructions of paragraph 4.2.2.1.2. of Airbus AOT A320-55A1039, dated November 4, 2009. In case of no finding, repeat the inspection two times, at intervals not to exceed 4,500 flight cycles but not sooner than 4,000 flight cycles after the last inspection.

(2) Perform a vacuum loss inspection for damage of the other areas (splice/lower rib/upper edge/leading edge/other specified locations), in accordance with the instructions of paragraph 4.2.2.1.2. of Airbus AOT A320-55A1039, dated November 4, 2009.

(3) If any damage is found during any inspection required by paragraph (o) of this AD: Before further flight, repair the damage using a method approved by either the Manager, International Branch, ANM-116; or the EASA (or its delegated agent).

(p) New Restorations/Inspections/Repairs of Certain Vacuum Loss Holes for Certain Rudders

If no damage is found during any inspection required by paragraph (o) of this AD: Before further flight, restore the vacuum loss holes by doing a permanent restoration with resin, in accordance with Note 3 of Airbus AOT A320-55A1039, dated November 4, 2009. Before doing the resin injection, do a local ultrasound inspection in reinforced areas, and a thermography inspection in other areas, for damage, in accordance with Note 3 of Airbus AOT A320-55A1039, dated November 4, 2009. If any damage is found during any inspection required by this paragraph: Before further flight, repair the damage using a method approved by either the Manager, International Branch, ANM-116; or the EASA (or its delegated agent).

(q) New Rudder Replacement for Rudders Identified in Table 3 to Paragraph (c) of This AD

For rudders identified in table 3 to paragraph (c) of this AD, do the actions specified in paragraphs (q)(1) and (q)(2) of this AD, in accordance with the instructions of Airbus AOT A320-55A1039, dated November 4, 2009, for the locations defined in that AOT. For this paragraph, “reference date” is defined as the effective date of this AD or the date when the rudder will accumulate 20,000 total flight cycles from its first installation on an airplane, whichever occurs later.

(1) For rudders identified in table 3 to paragraph (c) of this AD with a honeycomb core density of 24 kg/m³ (rudder P/N D554-71000-008-00 having affected rudder S/N TS-1032 and rudder P/N D554-71000-010-00 having affected rudder S/N TS-1092): Within 200 days after the effective date of this AD, replace the rudder with a new rudder, in accordance with a method approved by the Manager, International Branch, ANM-116; or the EASA (or its delegated agent).

(2) For rudders identified in table 3 to paragraph (c) of this AD that do not have a honeycomb core density of 24 kg/m³ (all except rudder P/N D554-71000-008-00 having affected rudder S/N TS-1032 and rudder P/N D554-71000-010-00 having affected rudder S/N TS-1092): Within 20 months after the effective date of this AD or within 200 days after the reference date, whichever occurs first, replace the rudder with a new rudder, in accordance with a method approved by the Manager, International Branch, ANM-116; or the EASA (or its delegated agent).

(r) New Vacuum Loss Inspection for Reinforced Areas of Rudder Identified in Figures 1 and 2 of This AD

For rudders identified in figures 1 and 2 of this AD: At the later of the times specified in paragraphs (r)(1) and (r)(2) of this AD, perform a vacuum loss inspection on the rudder reinforced area for damage, in accordance with the Accomplishment Instructions of Airbus Service Bulletin A320-55-1035, Revision 01, dated July 2, 2010 (for Model A320 series airplanes); Airbus Service Bulletin A320-55-1036, Revision 01, dated July 2, 2010 (for Model A318 and A321 series airplanes); or Airbus Service Bulletin A320-55-1037, Revision 01, dated July 2, 2010 (for Model A319 series airplanes).

(1) Before the rudder accumulates 17,000 total flight cycles from its first installation on an airplane without exceeding 20 months from the effective date of this AD.

(2) Within 200 days after the effective date of this AD.

(s) New ELCH Inspection for Rudder Trailing Edge Area

For rudders identified in figures 1 and 2 of this AD: Within 20 months after the effective date of this AD, perform an ELCH inspection for damage on the rudder trailing edge area, in accordance with the Accomplishment Instructions of Airbus Service Bulletin A320-55-1035, Revision 01, dated July 2, 2010 (for Model A320 series airplanes); Airbus Service Bulletin A320-55-1036, Revision 01, dated July 2, 2010 (for Model A318 and A321 series airplanes); or Airbus Service Bulletin A320-55-1037, Revision 01, dated July 2, 2010 (for Model A319 series airplanes). Repeat the inspection two times at intervals not to exceed 4,500 flight cycles, but not sooner than 4,000 flight cycles after the last inspection.

(t) New ELCH Inspection for Additional Rudder Areas

For rudders identified in figures 1 and 2 of this AD: At the later of the times specified in paragraphs (t)(1) and (t)(2) of this AD, perform an ELCH inspection for damage of the other areas (splice/lower rib/upper edge/leading edge/other specified locations) for damage, in accordance with the Accomplishment Instructions of Airbus Service Bulletin A320-55-1035, Revision 01, dated July 2, 2010 (for Model A320 series airplanes); Airbus Service Bulletin A320-55-1036, Revision 01, dated July 2, 2010 (for Model A318 and A321 series airplanes); or Airbus Service Bulletin A320-55-1037, Revision 01, dated July 2, 2010 (for Model A319 series airplanes). Repeat the inspection thereafter at intervals not to exceed 1,500 flight cycles or 200 days, whichever comes first.

(1) Before the rudder accumulates 17,000 total flight cycles from its first installation on an airplane without exceeding 20 months from the effective date of this AD.

(2) Within 200 days after the effective date of this AD.

(u) New Vacuum Loss Inspection for Certain Areas of Rudders Identified in Figures 1 and 2 of This AD

For rudders identified in figures 1 and 2 of this AD: Within 20 months after the effective date of this AD, perform a vacuum loss inspection for damage of the lower rib, upper edge, leading edge, and other specified locations, in accordance with the Accomplishment Instructions of Airbus Service Bulletin A320-55-1035, Revision 01, dated July 2, 2010 (for Model A320 series airplanes); Airbus Service Bulletin A320-55-1036, Revision 01, dated July 2, 2010 (for Model A318 and A321 series airplanes); or Airbus Service Bulletin A320-55-1037, Revision 01, dated July 2, 2010 (for Model A319 series airplanes). Accomplishment of the actions specified in this paragraph terminates the requirements of paragraph (t) of this AD.

(v) New Corrective Actions for Certain Inspections

In case of damage found during any inspection required by paragraph (r), (s), (t), or (u) of this AD: Before further flight, repair the damage using a method approved by either the Manager, International Branch, ANM-116; or the EASA (or its delegated agent).

(w) New Restorations/Inspections/Repairs of Certain Vacuum Loss Holes for Certain Other Rudders

If no damage is found during any inspection required by paragraph (r) or (u) of this AD: Before further flight, restore the vacuum loss holes by doing a permanent restoration with resin, in accordance with the Accomplishment Instructions of Airbus Service Bulletin A320-55-1035, Revision 01, dated July 2, 2010 (for Model A320 series airplanes); Airbus Service Bulletin A320-55-1036, Revision 01, dated July 2, 2010 (for Model A318 and A321 series airplanes); or Airbus Service Bulletin A320-55-1037, Revision 01, dated July 2, 2010 (for Model A319 series airplanes). Before doing the resin injection, do a local ultrasound inspection in reinforced areas, and a thermography inspection in other areas, for damage, in accordance with the Accomplishment Instructions of Airbus Service Bulletin A320-55-1035, Revision 01, dated July 2, 2010 (for Model A320 series airplanes); Airbus Service Bulletin A320-55-1036, Revision 01, dated July 2, 2010 (for Model A318 and A321 series airplanes); or Airbus Service Bulletin A320-55-1037, Revision 01, dated July 2, 2010 (for Model A319 series airplanes). If any damage is found during any inspection required by this paragraph: Before further flight, repair the damage using a method approved by either the Manager, International Branch, ANM-116; or the EASA (or its delegated agent).

(x) Credit for Certain Previous Actions

This paragraph provides credit for the inspections required by paragraphs (r), (s), (t), (u), and (w) of this AD only for the inspected area for rudders identified in figures 1 and 2 of this AD, if the area passed the inspection before the effective date of this AD using Airbus Service Bulletin A320-55-1035, dated February 17, 2010 (for Model A320 series airplanes); Airbus Service Bulletin A320-55-1036, dated February 17, 2010 (for Model A318 and A321 series airplanes); or Airbus Service Bulletin A320-55-1037, dated February 17, 2010 (for Model A319 series airplanes); which are not incorporated by reference in this AD. For all other inspected areas, the repetitive inspections required by paragraph (s), (t), and (w) of this AD are still required.

(y) New ELCH Inspection and Repairs for Certain Rudders

For rudders identified in figures 3 and 4 of this AD: Within 4,500 flight cycles but not sooner than 4,000 flight cycles after the sampling inspection, or within 30 days after the effective date of this AD, whichever occurs later, perform an ELCH inspection for damage on the rudder trailing edge area, in accordance with the Accomplishment Instructions of Airbus Service Bulletin A320-55-1035, Revision 01, dated July 2, 2010 (for Model A320 series airplanes); Airbus Service Bulletin A320-55-1036, Revision 01, dated July 2, 2010 (for Model A318 and A321 series airplanes); or Airbus Service Bulletin A320-55-1037, Revision 01, dated July 2, 2010 (for Model A319 series airplanes). Repeat the inspection within 4,500 flight cycles, but not sooner than 4,000 flight cycles after the last inspection. If any damage is found during any inspection required by paragraph (y) of this AD: Before further flight, repair the damage using a method approved by either the Manager, International Branch, ANM-116; or the EASA (or its delegated agent).

(z) Credit for Certain Other Previous Actions

This paragraph provides credit for the inspection required by paragraph (y) of this AD only for the inspected area for rudders identified in figures 3 and 4 of this AD if the area passed the inspection before the effective date of this AD using Airbus Service Bulletin A320-55-1035, dated February 17, 2010 (for Model A320 series airplanes); Airbus Service Bulletin A320-55-1036, dated February 17, 2010 (for Model A318 and A321 series airplanes); or Airbus Service Bulletin A320-55-1037, dated February 17, 2010 (for Model A319 series airplanes); which are not incorporated by reference in this AD. For all inspection areas, the repetitive inspections required by paragraph (y) of this AD are still required.

(aa) New Repetitive Inspections of Certain Rudders

For rudders P/N D554 71000 020 00, S/N TS-1494; and P/N D554 71002 000 00 0002, S/N TS-2212: Do the actions specified in paragraphs (aa)(1), (aa)(2), (aa)(3), and (aa)(4) of this AD, in accordance with Airbus AOT A320-55A1038, Revision 02, dated September 28, 2009. For this paragraph, “reference date” is defined as the date when the rudder will accumulate 20,000 total flight cycles from its first installation on an airplane.

(1) Within 200 days after the reference date, perform a vacuum loss inspection on the rudder reinforced area.

(2) Within 20 months after the reference date, perform an ELCH inspection on the rudder trailing edge area. Repeat the inspection two times at intervals not to exceed 4,500 flight cycles, but not sooner than 4,000 flight cycles, after the last inspection.

(3) Within 200 days after the reference date, perform an ELCH inspection of the other areas (splice/lower rib/upper edge/leading edge/other specified locations). Repeat the inspection at intervals not to exceed 1,500 flight cycles or 200 days, whichever comes first.

(4) Within 20 months after the reference date, perform a vacuum loss inspection of the other areas (splice/lower rib/upper edge/leading edge/other specified locations). Accomplishment of the actions specified in this paragraph terminates the requirements of paragraph (h)(3) of this AD.

(bb) New De-Bonding Corrective Actions

In case of de-bonding found during any inspection required by paragraph (aa) of this AD: Before further flight, contact Airbus for further instructions and apply the associated instructions and corrective actions in accordance with the approved data provided.

(cc) New Restoration of Vacuum Loss Holes

If no de-bonding is found during any inspection required by paragraph (aa) of this AD: Before further flight, restore the vacuum loss holes by a permanent restoration with resin, in accordance with Note 3 of Airbus AOT A320-55A1038, Revision 02, dated September 28, 2009. Before doing the resin injection, do a local ultrasound inspection in reinforced areas, and a thermography inspection in other areas, for damage, in accordance with Note 3 of Airbus AOT A320-55A1038, Revision 02, dated September 28, 2009. If any damage is found during any inspection required by this paragraph: Before further flight, repair the damage using a method approved by either the Manager, International Branch, ANM-116; or the EASA (or its delegated agent).

(dd) New Reporting for Paragraphs (n), (o), (r), (s), (t), (u), (y), and (aa) of This AD

At the applicable time specified in paragraph (dd)(1) or (dd)(2) of this AD, submit a report of the findings (both positive and negative) of each inspection required by paragraphs (n), (o), (r), (s), (t), (u), (y), and (aa) of this AD. The report must include the inspection results, as specified in Airbus Technical Disposition TD/K4/S2/27086/2009, Issue E, dated September 17, 2009. For positive findings, submit the report to either the Manager, Seer1/Seer2/Seer3 Customer Services, fax +33 (0)5 61 93 28 73, email region1.structurerepairsupport@airbus.com, region2.structurerepairsupport@airbus.com, or region3.structurerepairsupport@airbus.com; or AIRTAC (Airbus Technical AOG Center) Customer Services, telephone +33 (0)5 61 93 34 00, fax +33 (0)5 61 93 35 00, email airtac@airbus.com. For negative findings, submit the report to SEES1, Customer Services, fax +33 (0)5 61 93 36 14.

(1) For any inspection done on or after the effective date of this AD: Submit the report within 10 days after the inspection.

(2) For any inspection done before the effective date of this AD: Submit the report within 10 days after the effective date of this AD.

(ee) New Parts Installation Limitation

As of the effective date of this AD, no rudder listed in table 1, 2, or 3 of this AD; or figure 1, 2, 3, or 4 of this AD; or a rudder identified in paragraph (ee)(1) or (ee)(2) of this AD; may be installed on any airplane, unless the rudder is in compliance with the requirements of this AD.

(1) P/N D554 71000 020 00; S/N TS-1494.

(2) P/N D554 71002 000 00 0002; S/N TS-2212.

(ff) Other FAA AD Provisions

The following provisions also apply to this AD:

(1) Alternative Methods of Compliance (AMOCs): The Manager, International Branch, ANM-116, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing, and reviewing the collection of information. All responses to this collection of information are mandatory. Comments concerning the accuracy of this burden and suggestions for reducing the burden should be directed to the FAA at: 800 Independence Ave. SW., Washington, DC 20591, Attn: Information Collection Clearance Officer, AES-200.

(gg) Related Information

(1) Refer to MCAI EASA Airworthiness Directive 2010-0164, dated August 5, 2010, for related information.

(2) Service information identified in this AD that is not incorporated by reference may be obtained at the addresses specified in paragraph (hh)(5) and (hh)(6) of this AD.

(hh) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on July 26, 2013.

(i) Airbus All Operators Telex (AOT) A320-55A1038, dated April 22, 2009. The first page of this document contains the document number and date; no other pages contain this information.

(ii) Airbus AOT A320-55A1039, dated November 4, 2009. The first page of this document contains the document number and date; no other pages contain this information.

(iii) Airbus Service Bulletin A320-55-1035, Revision 01, dated July 2, 2010.

(iv) Airbus Service Bulletin A320-55-1036, Revision 01, dated July 2, 2010.

(v) Airbus Service Bulletin A320-55-1037, Revision 01, dated July 2, 2010.

(vi) Airbus Technical Disposition TD/K4/S2/27051/2009, Issue B, dated February 25, 2009.

(4) The following service information was approved for IBR on December 10, 2010 ((75 FR 68181, November 5, 2010); corrected (75 FR 78883, December 17, 2010)).

(i) Airbus AOT A320-55A1038, Revision 01, dated June 10, 2009. The first page of this document contains the document number, revision level, and date; no other pages contain this information.

(ii) Airbus AOT A320-55A1038, Revision 02, dated September 28, 2009. The first page of this document contains the document number, revision level, and date; no other pages contain this information.

(iii) Airbus Technical Disposition TD/K4/S2/27086/2009, Issue E, dated September 17, 2009. The first page of this document contains the document number, revision level, and date; no other pages contain this information.

(5) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(6) You may review copies of the service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on March 1, 2013.
Ali Bahrami,
Manager, Transport Airplane Directorate, Aircraft Certification Service.

[FR Doc. 2013-14698 Filed 6-20-13; 8:45 am]

BILLING CODE 4910-13-P